DEPARTMENT OF THE INTERIOR

Bureau of Land Management

[20X.LLAK930100 L510100000.ER0000]

Notice of Availability of the Record of Decision for the Ambler Mining District Industrial Access Road Environmental Impact Statement, Alaska

AGENCY: Bureau of Land Management, Interior.

ACTION: Notice of availability.

SUMMARY: The Bureau of Land Management (BLM) announces the availability of the Record of Decision (ROD) for the Environmental Impact Statement (EIS) for the Ambler Mining District Industrial Access Road Project.

DATES: The BLM issued a ROD for the Ambler Road EIS on July 23, 2020.

ADDRESSES: To access the ROD or to request an electronic or paper copy, please reach out to:

• Website: http://www.blm.gov/alaska,

• Email: tmcmastergoering@blm.gov,

• Mail: BLM Alaska State Office, 222 West 7th Avenue #13, Anchorage, Alaska 99513.

FOR FURTHER INFORMATION CONTACT: Tina McMaster-Goering, Ambler Road EIS Project Manager, telephone: 907-271-1310; address: 222 West 7th Avenue, #13, Anchorage, Alaska 99513. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Ambler Road EIS analyzed an application for a Right of Way grant for a year-round industrial access road in support of mining exploration and development, and for construction, operation, and maintenance of facilities associated with that access, The EIS disclosed potential effects associated with the construction, operation, maintenance and reclamation of the road. The road would run from the existing Dalton Highway to the Ambler Mining District. The Alaska Industrial Development and Export Authority (AIDEA), a public corporation of the State of Alaska, is the applicant.

The AIDEA estimates the creation of an annual average of 486 jobs during road construction and up to 68 full-time jobs over the life of the road.

(Authority: 40 CFR 1506.6(b))

Chad B. Padgett,
State Director, Alaska.

[FR Doc. 2020-16289 Filed 7-27-20; 8:45 am]

BILLING CODE 4310-JA-P